DEPARTMENT OF JUSTICE

Notice of Lodging of Proposed Consent Decree Under the Comprehensive Environmental Response, Compensation, and Liability Act

On November 10, 2016, the Department of Justice lodged a proposed consent decree with the United States District Court for the District of New Jersey in the lawsuit entitled United States v. Shieldalloy Metallurgical Corporation, Civil Action No. 16-cv-8418.

The United States has filed a Complaint brought on behalf of the United States Environmental Protection Agency (“EPA”) against Shieldalloy Metallurgical Corporation (“SMC”) seeking performance of Operable Units 1 and 2 (“OU1 and OU2”) of the remedial action and past and future response costs at the Shieldalloy Metallurgical Corporation Superfund Site (“Site”) in Gloucester and Cumberland Counties, New Jersey. The consent decree resolving the claims requires SMC to perform the OU1 and OU2 remedies at the Site. EPA estimates the value of the work to be performed pursuant to the Consent Decree at about $5,635,000. In addition, EPA will receive $505,000 in reimbursement of its past costs and a commitment by SMC to pay future response costs at the Site relating to the work to be performed.

The publication of this notice opens a period for public comment on the consent decree. Comments should be addressed to the Assistant Attorney General, Environment and Natural Resources Division, and should refer to United States v. Shieldalloy Metallurgical Corporation, D.J. Ref. No. 90-11-3-11285. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the consent decree may be examined and downloaded at this Justice Department Web site: https://www.justice.gov/enrd/consent-decrees. We will provide a paper copy of the consent decree upon written request and payment of reproduction costs. Please mail your request and payment to: Consent Decree Library, U.S. DOJ—ENRD, P.O. Box 7611, Washington, DC 20044-7611.

Please enclose a check or money order for $94.00 (25 cents per page reproduction cost) payable to the United States Treasury. For a paper copy without the appendices, the cost is $11.25.

Robert E. Maher Jr.,
Assistant Section Chief, Environmental Enforcement Section, Environment and Natural Resources Division.

[FR Doc. 2016-28181 Filed 11-22-16; 8:45 am]

BILLING CODE 4410-15-P